DEPARTMENT OF ENERGY

Federal Energy Regulatory Commission

Combined Notice of Filings # 1

Take notice that the Commission received the following exempt wholesale generator filings:

Docket Numbers: EG24-63-000.

Applicants: Escalante Solar, LLC.

Description: Escalante Solar, LLC submits Notice of Self-Certification of Exempt Wholesale Generator Status.

Filed Date: 12/28/23.

Accession Number: 20231228-5153.

Comment Date: 5 p.m. ET 1/18/24.

Take notice that the Commission received the following electric rate filings:

Docket Numbers: ER10-1276-017; ER10-1287-016; ER10-1292-015; ER10-1303-015; ER10-1319-017; ER10-1353-017; ER18-1183-008; ER18-1184-008; ER23-1411-002.

Applicants: Newport Solar LLC, Delta Solar Power II, LLC, Delta Solar Power I, LLC, Dearborn Industrial Generation, L.L.C., CMS Generation Michigan Power, LLC, Genesee Power Station Limited Partnership, CMS Energy Resource Management Company, Grayling Generation Station Limited Partnership, Consumers Energy Company.

Description: Triennial Market Power Analysis for Central Region of Consumers Energy Company, et al.

Filed Date: 12/27/23.

Accession Number: 20231227-5282.

Comment Date: 5 p.m. ET 2/26/24.

Docket Numbers: ER24-765-000.

Applicants: Consolidated Edison Company of New York, Inc.

Description: § 205(d) Rate Filing: PASNY RY 2 12-2023 to be effective 1/1/2024.

Filed Date: 12/27/23.

Accession Number: 20231227-5262.

Comment Date: 5 p.m. ET 1/17/24.

Docket Numbers: ER24-766-000.

Applicants: Viridon California LLC.

Description: Baseline eTariff Filing: Formula Rate Baseline to be effective 2/27/2024.

Filed Date: 12/28/23.

Accession Number: 20231228-5108.

Comment Date: 5 p.m. ET 1/18/24.

Docket Numbers: ER24-767-000.

Applicants: Tri-State Generation and Transmission Association, Inc.

Description: § 205(d) Rate Filing: Initial Filing of Service Agreement Nos. 918, 919, and 920 to be effective 12/1/2023.

Filed Date: 12/28/23.

Accession Number: 20231228-5160.

Comment Date: 5 p.m. ET 1/18/24.

Docket Numbers: ER24-768-000.

Applicants: Duke Energy Progress, LLC.

Description: § 205(d) Rate Filing: Revised Depreciation Rates in Rate Schedule No. 199 to be effective 10/1/2023.

Filed Date: 12/28/23.

Accession Number: 20231228-5166.

Comment Date: 5 p.m. ET 1/18/24.

Docket Numbers: ER24-769-000.

Applicants: New England Power Pool Participants Committee.

Description: § 205(d) Rate Filing: Jan 2024 Membership Filing to be effective 1/1/2024.

Filed Date: 12/28/23.

Accession Number: 20231228-5190.

Comment Date: 5 p.m. ET 1/18/24.

Docket Numbers: ER24-770-000.

Applicants: American Transmission Systems, Incorporated, PJM Interconnection, L.L.C.

Description: § 205(d) Rate Filing: American Transmission Systems, Incorporated submits tariff filing per 35.13(a)(2)(iii: ATSI submits Revised Interconnection Agreement, Service Agreement No. 3992 to be effective 2/27/2024.

Filed Date: 12/28/23.

Accession Number: 20231228-5236.

Comment Date: 5 p.m. ET 1/18/24.

Docket Numbers: ER24-771-000.

Applicants: Viridon New England LLC.

Description: Viridon New England LLC submits Request for authorization to utilize certain incentive rate treatments.

Filed Date: 12/26/23.

Accession Number: 20231226-5184.

Comment Date: 5 p.m. ET 1/16/24.

Docket Numbers: ER24-772-000.

Applicants: Duke Energy Carolinas, LLC.

Description: § 205(d) Rate Filing: Wholesale Contract Revisions to Rate Schedule No. 336 to be effective 1/1/2024.

Filed Date: 12/28/23.

Accession Number: 20231228-5256.

Comment Date: 5 p.m. ET 1/18/24.

Docket Numbers: ER24-773-000.

Applicants: Escalante Solar, LLC.

Description: Baseline eTariff Filing: Escalante Solar LLC MBR Application Filing to be effective 1/1/2024.

Filed Date: 12/28/23.

Accession Number: 20231228-5293.

Comment Date: 5 p.m. ET 1/18/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 28, 2023.
Debbie-Anne A. Reese,
Deputy Secretary.

[FR Doc. 2023-28984 Filed 1-3-24; 8:45 am]

BILLING CODE 6717-01-P